DEPARTMENT OF DEFENSE

GENERAL SERVICES ADMINISTRATION

NATIONAL AERONAUTICS AND SPACE ADMINISTRATION

48 CFR Parts 25 and 52

[FAC 2005-14; FAR Case 2005-045; Item II; Docket 2006-0020, Sequence 20]

RIN 9000-AK43

Federal Acquisition Regulation; FAR Case 2005-045, Removal of Sanctions Against Certain EU Countries

AGENCIES: Department of Defense (DoD), General Services Administration (GSA), and National Aeronautics and Space Administration (NASA).

ACTION: Final rule.

SUMMARY: The Civilian Agency Acquisition Council and the Defense Acquisition Regulations Council (Councils) have agreed to adopt as final, without change, an interim rule that amended the Federal Acquisition Regulation (FAR) to remove the sanctions against certain European Union (EU) countries.

DATES: Effective Date: November 22, 2006.

FOR FURTHER INFORMATION CONTACT: For clarification of content, contact Mr. Jeremy Olson, at (202) 501-3221. Please cite FAC 2005-14, FAR case 2005-045. For information pertaining to status or publication schedules, contact the FAR Secretariat at (202) 501-4755.

SUPPLEMENTARY INFORMATION:

A. Background

DoD, GSA, and NASA published an interim rule in the Federal Register at 71 FR 20305 on April 19, 2006. The interim rule deleted FAR Subpart 25.6, Trade Sanctions, and the clauses at FAR 52.225-15, Sanctioned European Union Country End Products, and FAR 52.225-16, Sanctioned European Union Country Services, and other associated references in FAR Part 25.

No comments were received by the close of the public comment period on June 19, 2006. Therefore, the Councils have agreed to convert the interim rule to a final rule without change.

This is not a significant regulatory action and, therefore, was not subject to review under Section 6(b) of Executive Order 12866, Regulatory Planning and Review, dated September 30, 1993. This rule is not a major rule under 5 U.S.C. 804.

B. Regulatory Flexibility Act

The Department of Defense, the General Services Administration, and the National Aeronautics and Space Administration certify that this final rule will not have a significant economic impact on a substantial number of small entities within the meaning of the Regulatory Flexibility Act, 5 U.S.C. 601, et seq., because this rule only removes sanctions from—

• End products from sanctioned EU countries with an estimated acquisition value less than $193,000;

• Sanctioned EU country construction with an estimated acquisition value less than $7,407,000; or

• Sanctioned EU country services with an estimated acquisition value less than $193,000 or that are excluded from coverage by the World Trade Organization Government Procurement Agreement.

These sanctions did not apply to small business set-asides, to acquisitions below the simplified acquisition threshold using simplified acquisition procedures, or to acquisitions by the Department of Defense.

C. Paperwork Reduction Act

The Paperwork Reduction Act does not apply because the changes to the FAR do not impose information collection requirements that require the approval of the Office of Management and Budget under 44 U.S.C. 3501, et seq.

List of Subjects in 48 CFR Parts 25 and 52

Government procurement.

Dated: November 15, 2006.
Ralph De Stefano,
Director, Contract Policy Division.

Interim Rule Adopted as Final Without Change

Accordingly, the interim rule amending 48 CFR parts 25 and 52, which was published at 71 FR 20305, April 19, 2006, is adopted as a final rule without change.

[FR Doc. 06-9307 Filed 11-21-06; 8:45 am]

BILLING CODE 6820-EP-S